DEPARTMENT OF VETERANS AFFAIRS

[OMB Control No. 2900-0209]

Agency Information Collection (Application for Work-Study Allowance): Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before February 13, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0209” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0209” in any correspondence.

SUPPLEMENTARY INFORMATION:

Titles

a. Application for Work-Study Allowance, VA Form 22-8691.

b. Student Work-Study Agreement (Advance Payment), VA Form 22-8692.

c. Extended Student Work-Study Agreement, VA Form 22-8692a.

d. Work-Study Agreement, VA Form 22-8692b.

OMB Control Number: 2900-0209.

Type of Review: Revision of a currently approved collection.

Abstracts

a. VA Form 22-8691 is used by claimants to apply for work-study benefits.

b. VA Form 22-8692 is used to request an advance payment of work-study allowance.

c. VA Form 22-8692a is used by a claimant to extend his or her work-study contract.

d. VA Form 22-8692b is used by claimants who do not want a work-study advanced allowance payment.

The data collected is used to determine an applicant's eligibility for work-study allowance and the amount payable.

An agency may not conduct or sponsor, and a person is not required to respond to a collection of information unless it displays a currently valid OMB control number. The Federal Register Notice with a 60-day comment period soliciting comments on this collection of information was published at 79 FR 62712, October 20, 2014.

Affected Public: Individuals or households.

Estimated Annual Burden

a. VA Form 22-8691—5,008 hours.

b. VA Form 22-8692 & VA Form 22-8692b—1,296 hours.

c. VA Form 22-8692a—153 hours.

Estimated Average Burden per Respondent

a. VA Form 22-8691—15 minutes.

b. VA Form 22-8692—5 minutes.

c. VA Form 22-8692a—3 minutes.

d. VA Form 22-8692b—5 minutes.

Frequency of Response: Annually.

Estimated Number of Respondents

a. VA Form 22-8691—20,032.

b. VA Form 22-8692 & VA Form 22-8692a—15,549.

c. VA Form 22-8692b—3,054.

Dated: January 9, 2015.
By direction of the Secretary.
Crystal Rennie,
Department Clearance Officer, Department of Veterans Affairs.

[FR Doc. 2015-00391 Filed 1-13-15; 8:45 am]

BILLING CODE 8320-01-P